DEPARTMENT OF THE INTERIOR

Fish and Wildlife Service

Notice of Intent To Prepare an Environmental Impact Statement for Caspian Tern Management in the Columbia River Estuary and Notification of Six Public Scoping Meetings

AGENCY: Fish and Wildlife Service, Interior.

ACTION: Notice of intent.

SUMMARY: Pursuant to the National Environmental Policy Act of 1969, as amended (NEPA), this notice advises the public that the U.S. Fish and Wildlife Service (Service), the U.S. Army Corps of Engineers (Corps), and the National Marine Fisheries Service (NMFS) are preparing an Environmental Impact Statement (EIS) for Caspian Tern (Sterna caspia) Management in the Columbia River estuary, and announces six public scoping meetings. The proposed project study area includes the States of Washington, Oregon, California, Idaho, and Nevada. We are furnishing this notice in compliance with NEPA and implementing regulations for the following purposes: (1) To advise other agencies and the public of our intentions; (2) to obtain suggestions and information on the issues related to the proposed project to be addressed in the EIS; and (3) to announce public meetings for scoping.

DATES: Written comments are encouraged, and should be received no later than 5 p.m. Pacific time on May 22, 2003. Interested parties may contact the Service for more information at the address below. Proposed project information will be presented, and comments will be accepted at each meeting. The meeting dates and times are:

1. April 14, 2003, 5:30-8:30 p.m., Oakland, CA.

2. April 15, 2003, 5:30-8:30 p.m., Arcata, CA.

3. April 28, 2003, 5:30-8:30 p.m., Aberdeen, WA.

4. April 29, 2003, 5:30-8:30 p.m., Olympia, WA.

5. May 5, 2003, 5:30-8:30 p.m., Astoria, OR.

6. May 6, 2003, 5:30-8:30 p.m., Portland, OR.

ADDRESSES: Address comments, requests for more information related to the preparation of the EIS, or requests to be added to the mailing list for this project to: Nanette Seto, Migratory Birds and Habitat Programs, 911 NE 11th Avenue, Portland, OR 97232, telephone (503) 231-6164, facsimile (503) 231-2019.

The meeting locations are:

1. Oakland, Marriott, 1001 Broadway, Oakland, CA.

2. Arcata, Redwood Park Lodge, East Park Road, Arcata, CA.

3. Aberdeen, Grays Harbor College, 1620 Edward P. Smith Dr., Aberdeen, WA.

4. Olympia, Washington State Capital Museum, 211 West 21st Ave., Olympia, WA.

5. Astoria, Duncan Law Seafood Center, 2021 Marine Drive #200, Astoria, OR.

6. Portland, Double Tree Hotel, Lloyd Center, 1000 North East Multnomah, Portland, OR.

SUPPLEMENTARY INFORMATION:

Background

In 2000, Seattle Audubon, National Audubon, American Bird Conservancy, and Defenders of Wildlife filed a lawsuit against the Corps alleging that compliance with NEPA for the proposed action of relocating a large colony of Caspian terns from Rice Island to East Sand Island, to reduce tern predation on salmon smolts, was insufficient; and against the Service in objection to the potential take of eggs as a means to prevent nesting on Rice Island. In 2002, all parties reached a settlement agreement. Terms of the agreement require the provision of approximately 6 acres of habitat for Caspian terns on East Sand Island and the prohibition of lethal take of adults or eggs on Rice Island. The settlement agreement also stipulates that the Service, Corps, and NMFS prepare an EIS to address salmon smolt predation and Caspian tern management in the Columbia River estuary.

Current Planning Effort

The Service, Corps, and NMFS are beginning the process of developing an EIS for Caspian tern management in the Columbia River estuary. The EIS will address the following issues: (1) Caspian tern predation on salmon smolts in the Columbia River estuary; (2) management of Caspian terns in the Pacific Coast/Western region, particularly the colony on East Sand Island in the Columbia River estuary; and (3) long-term ownership and management of East Sand Island in the Columbia River estuary.

Preliminary Scoping Issues

The following preliminary issues and questions have been identified for consideration in the EIS. Additional issues will be identified during public scoping.

1. Predation by the current Caspian tern colony on East Sand Island may have impacts on listed salmonids in the Columbia River estuary. Salmon experience high mortality rates as juveniles during the freshwater, estuary and early ocean stages, leading researchers to suggest that reducing mortality during the juvenile stage has the potential to increase population growth rates. NMFS is concerned over the increasing impact of avian predation on listed salmonids in the Columbia River estuary.

2. Is there a need to actively manage the Caspian tern colony on East Sand Island to ensure long-term conservation of this species in the Pacific Coast/Western region? Natural and human-caused events have reduced or eliminated habitat in the Pacific Coast/Western region; 8 of 15 historic colonies have been lost or abandoned in the last 20 years. Currently, about 24 colonies of Caspian terns are breeding in the region, with many concentrated on few remaining suitable sites. In particular, East Sand Island contains about 70 percent of the tern population in the region. This large colony may be vulnerable to catastrophic accidents in the Columbia River and stochastic events such as storms, predators, human disturbance, and disease.

3. Management actions may be required to protect salmonid stocks and the Caspian tern colony in the Columbia River estuary. Federal and State agencies, and nongovernmental organizations have agreed to explore the need and opportunity to restore, create, and enhance nesting habitat for Caspian terns in the Pacific Coast/Western region as one means to reduce and disperse the large tern colony on East Sand Island in the Columbia River estuary. The benefits of this action would reduce the level of tern predation on out-migrating Columbia River smolts and lower the vulnerability of a significant portion of the breeding Caspian terns in the Pacific Coast/Western region to catastrophic events.

Public Comments

Comments and materials received will be available for public inspection, by appointment, during normal business hours, at the above address. All comments received from individuals on Environmental Impact Statements become part of the official public record. Requests for such comments will be handled in accordance with the Freedom of Information Act, the Council on Environmental Quality's NEPA regulations (40 CFR 1506.6(f)), and other Service and Departmental policy and procedures. When requested, the Service generally will provide comment letters with the names and addresses of the individuals who wrote the comments. However, the telephone number of the commenting individual will not be provided in response to such requests to the extent permissible by law. Additionally, public comment letters are not required to contain the commentator's name, address, or other identifying information. Such comments may be submitted anonymously to the Service.

The environmental review of this project will be conducted in accordance with the requirements of the National Environmental Policy Act of 1969, as amended (42 U.S.C. 4321 et seq.), NEPA Regulations (40 CFR parts 1500-1508), other appropriate Federal laws and regulations, and Service policies and procedures for compliance with those regulations.

Dated: March 7, 2003.
Rowan Gould,
Deputy Regional Director, U.S. Fish and Wildlife Service, Region 1, Portland, Oregon.

[FR Doc. 03-6898 Filed 4-4-03; 8:45 am]

BILLING CODE 4310-55-P